DEPARTMENT OF HEALTH AND HUMAN SERVICES

Administration for Children and Families

45 CFR Parts 301, 302, 303, 304, 305, 307, 308, 309, and 310

RIN 0970-AC96

Parentage Establishment in the Child Support Services Program; Withdrawal

AGENCY: Administration for Children and Families (ACF), HHS.

ACTION: Proposed rule; withdrawal.

SUMMARY: This document withdraws a proposed rule that was published in the Federal Register on September 26, 2023. The proposed rule would have amended the Child Support Services Program to be inclusive of all family structures served by the child support services program.

DATES: The Administration for Children and Families is withdrawing the proposed rule published September 26, 2023 (88 FR 65928) as of January 15, 2025.

FOR FURTHER INFORMATION CONTACT: Kimberly Curtis, Division of Policy and Training, OCSS, telephone (202) 690-6614. Email inquiries to ocss.dpt@acf.hhs.gov. Telecommunications Relay users may dial 711 first.

SUPPLEMENTARY INFORMATION: The Administration for Children and Families (ACF) published a notice of proposed rulemaking (NPRM) related to the administration of the Child Support Services Program in the Federal Register on September 26, 2023 (88 FR 65928). The Notice of Proposed Rulemaking (NPRM) proposed to define “parentage” to mean the establishment of the legal parent-child relationship in accordance with the laws and procedures of the state or tribe. The NPRM also proposed to replace the gender-specific term “paternity” with the gender-neutral term “parentage” throughout Title 45 Chapter III of the Code of Federal Regulations, to be inclusive of all family structures served by the child support program. These proposed changes to Chapter III of the child support regulations recognized developments in state law regarding parentage establishment, including state laws allowing for establishment of parentage for children with same-sex parents. The proposed rulemaking provided states and tribes the option to expand their parentage establishment laws and procedures to include establishment of parentage for children of same-sex parents, and it reinforced that such services are eligible for Title IV-D matching funds.

ACF does not intend to publish a final rule following the publication of this NPRM on September 26, 2023. In making this decision, we considered the complexity of the issues raised by some of the comments received and determined that, if the Department were to proceed with rulemaking on this topic, we would benefit from additional input from stakeholders to assure that assistance in obtaining support would be available under Title IV-D to all children for whom such assistance is requested, regardless of their family structure. Moreover, with the time remaining in this Administration, the Department is focused on several critical child support priorities, including the recently passed H.R. 9076 Supporting America's Children and Families Act, the recently published Final Rule on Employment and Training Services, recently issued sub-regulatory guidance on Systems Modernization, and other sub-regulatory guidance documents. The Department's reasons for withdrawing this NPRM are independently sufficient.

Importantly, the Department continues to believe that the NPRM is authorized by the Secretary's longstanding and existing authority under the Act, as explained in the NPRM.

Dated: January 8, 2025.
Xavier Becerra,
Secretary, Department of Health and Human Services.

[FR Doc. 2025-00638 Filed 1-14-25; 8:45 am]

BILLING CODE 4184-41-P